DEPARTMENT OF THE INTERIOR

Bureau of Land Management

[LLNVB0l000.L51100000. GN0000.LVEMF1604910 MO# 4500135252]

Notice of Availability for the Environmental Impact Statement for the Proposed Deep South Expansion Project, Lander and Eureka Counties, Nevada

AGENCY: Bureau of Land Management, Interior.

ACTION: Notice.

SUMMARY: In compliance with the National Environmental Policy Act of 1969, as amended (NEPA), and the Federal Land Policy and Management Act of 1976, as amended (FLPMA), the Bureau of Land Management (BLM) Mount Lewis Field Office, Battle Mountain, Nevada, has prepared a Final Environmental Impact Statement (EIS) and by this notice is announcing its availability. Barrick Cortez, Inc. (BCI) is proposing to expand its existing Cortez Hills Project mining operations, which are located southeast of Battle Mountain in Eureka and Lander Counties, Nevada.

DATES: The BLM will not issue a final decision on the proposal for a minimum of 30 days after the date that the Environmental Protection Agency publishes its Notice of Availability in the Federal Register.

ADDRESSES: Copies of the Final EIS for the Deep South Expansion Project and other documents pertinent to this proposal may be examined at the Mount Lewis Field Office, 50 Bastian Road, Battle Mountain, Nevada 89820. The document is also available for download at https://go.usa.gov/xmQR9.

FOR FURTHER INFORMATION CONTACT: Kevin Hurrell, Project Manager; telephone: 775-635-4000; address: 50 Bastian Road, Battle Mountain, Nevada 89820; or email: blm_nv_mlfo_deepsoutheis@blm.gov. Contact Kevin Hurrell to have your name added to BLM's mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: There are 54,825 acres of public lands within the Plan of Operations boundary that are administered by the BLM Mount Lewis Field Office, and 3,268 acres of private lands controlled by BCI. BCI was previously authorized to disturb 16,700 acres within their Plan of Operations boundary.

The proposed mine expansion, named the Deep South Expansion Project (Proposed Project) would require a modification to the Plan of Operations to increase the plan boundary by 4,279 acres: from 58,093 acres to 62,372 acres. The proposed modification would result in approximately 3,846 acres of new disturbance inside the new proposed plan boundary, of which 2,779 acres are public lands.

BCI currently employs about 1,250 people from the northern Nevada towns of Elko, Battle Mountain, Winnemucca, Eureka, Carlin, and surrounding areas. If the Deep South Expansion Project is approved, the company expects to extend the mine life and employment opportunities for its workforce by another 12 years.

BCI's purpose for the Deep South Expansion Project is to continue to profitably recover gold and silver from reserves and resources on federal mining claims in the Project Area utilizing, to the extent practical, existing facilities at BCI's currently permitted operations within the Project Area.

The Final EIS describes and analyzes the Proposed Project's direct, indirect, and cumulative impacts on all affected resources. In addition to the Proposed Project, the Final EIS analyzes one additional action alternative (the Gold Acres Pit Partial Backfill alternative) and the No Action Alternative.

Under the Gold Acres Pit Partial Backfill Alternative, the proposed expansion of the existing Gold Acres Pit would be completed prior to development of the proposed satellite pits (Alta, Bellwether, and Pasture), with the waste rock from the satellite pits (30 million tons) placed as backfill in the Gold Acres Pit to an approximate elevation of 5,440 feet above mean sea level (amsl) (Figures 2-18 and 2-19). This would result in a 72-acre reduction in the proposed new disturbance for the Gold Acres North Waste Rock Facility. The pit bottom elevations for the expanded Gold Acres Pit and proposed satellite pits would be the same as described for the Proposed Action. No dewatering would be required for the proposed expansion of open pit operations at the Gold Acres Complex as the proposed pit bottom elevations would be above the groundwater table. Therefore, proposed dewatering and water management operations would be the same as under the Proposed Action.

Under the No Action Alternative, the proposed facilities and facility modifications as well as the proposed operations modifications that comprise the Deep South Expansion Project would not be developed or implemented. Under this alternative, the existing mining and processing operations in the Project Area and the current off site transport of refractory ore to the Goldstrike Mill for processing and backhaul of Arturo Mine oxide ore to the Pipeline Complex for processing would continue under the terms of current permits and approvals as authorized by the BLM and State of Nevada.

On March 29, 2017, a Notice of Intent was published in the Federal Register (80 FR 58501) inviting scoping comments on the Proposed Action. The BLM held three public scoping meetings on April 18, 19, and 20, 2017, in Battle Mountain, Crescent Valley, and Elko, Nevada respectively. The BLM received six scoping comment submittals during the scoping period. Concerns raised included impacts to water resources, air quality, wildlife, and recreation.

The Notice of Availability (NOA) for the Draft EIS was published in the Federal Register on October 22, 2018 (83 FR 53292), commencing a 45-day comment period that ended on December 5, 2018. The BLM held three public comment meetings on November 6, 7, and 8, 2018 in Battle Mountain, Crescent Valley, and Elko, Nevada respectively. A total of 29 comment letters were received on the Draft EIS via mail and email. All agency and public comments on the Draft EIS were given careful consideration in preparation of the Final EIS. Each comment, as well as a corresponding response, is provided in Appendix F of the Final EIS.

The BLM has utilized and coordinated the NEPA scoping and comment process to help fulfill the public involvement requirements under the National Historic Preservation Act (NHPA) (54 U.S.C. 306108) as provided in 36 CFR 800.2(d)(3), and the agency continues to do so. The information about historical and cultural resources within the area potentially affected by the Proposed Project has assisted the BLM in identifying and evaluating impacts to such resources in the context of both NEPA and the NHPA.

The BLM has consulted and continues to consult with Indian tribes on a government-to-government basis in accordance with Executive Order 13175 and other policies. Tribal concerns, including potential impacts to cultural resources, have been analyzed in the Final EIS.

Bradlee Matthews,
Acting Field Manager, Mount Lewis Field Office.

[FR Doc. 2019-15828 Filed 7-25-19; 8:45 am]

BILLING CODE 4310-HC-P